DEPARTMENT OF ENERGY

Federal Energy Regulatory Commission

[Docket No. EL01-27-000]

Dominion Retail, Inc., Complainant, vs. FirstEnergy Corp., Cleveland Electric Illuminating Company, Ohio Edison Company, Toledo Edison Company, and American Transmission Systems, Inc., Respondent; Notice of Complaint

January 10, 2001.

Take notice that on January 9, 2001, the above listed entity, Dominion Retail, Inc. (Dominion Retail or Complainant), tendered for filing a complaint under the Federal Energy Regulatory Commission's (Commission) fast-track procedures against FirstEnergy Corp., Cleveland Electric Illuminating Company, Ohio Edison Company, Toledo Edison Company and American Transmission Systems, Inc. (FirstEnergy).

Complainant has requested that the Commission: (1) find that this complaint merits Fast Track Processing as provided by Section 206(h) of the Commission's Rules of Practice and Procedures; (2) find that the exclusion of FirstEnergy's marketing affiliates from the conditions contained in Paragraph V of the Stipulation and Recommendation is in violation of Section 205 of the Federal Power Act; and of the Commission's Rules related to affiliated entities, and of FirstEnergy's Code of Conduct as filed with and approved by this Commission; (3) find that the conditions imposed upon affiliated marketers in Paragraph V of the Stipulation and Recommendation is in violation of Section 205 of the Federal Power Act, or in the alternative, that FirstEnergy's interpretation and application of those conditions so as to disqualify Dominion Retail from qualifying to receive an allocation of MSG power is in violation of Section 205 of the Federal Power Act; and (4) provide such other and further relief as may be appropriate under the circumstances.

Any person desiring to be heard or to protest this filing should file a motion to intervene or protest with the Federal Energy Regulatory Commission, 888 First Street, N.E., Washington, D.C. 20426, in accordance with Rules 211 and 214 of the Commission's Rules of Practice and Procedure (18 CFR 385.211 and 385.214). All such motions or protests must be filed on or before January 29, 2001. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before January 29, 2001. Comments and protests may be filed electronically via the internet in lieu of paper. See, 18 CFR 385.2001(a)(1)(iii) and the instructions on the Commission's web site at http://www.ferc.fed.us/efi/doorbell.htm.

David P. Boergers,
Secretary.

[FR Doc. 01-1259 Filed 1-16-01; 8:45 am]

BILLING CODE 6717-01-M